DEPARTMENT OF THE TREASURY

United States Mint

ACTION: Request for CCAC membership applications.

SUMMARY: The United States Mint is accepting applications for membership to the Citizens Coinage Advisory Committee (CCAC) for three positions—a representative from the general public; an individual specially qualified in numismatics by virtue of his or her education, training, or experience; and an individual specially qualified in American history. Public Law 108-15 established the CCAC to:

• Advise the Secretary of the Treasury on any theme or design proposals relating to circulating coinage, bullion coinage, Congressional Gold Medals, and other medals produced by the United States Mint.

• Advise the Secretary of the Treasury with regard to—

• The events, persons, or places that the Committee recommends to be commemorated by the issuance of commemorative coins in each of the five calendar years succeeding the year in which a commemorative coin designation is made.

• Making recommendations with respect to the mintage level for any commemorative coin recommended.

• The proposed designs for commemorative coins.

Total membership consists of 11 voting members appointed by the Secretary of the Treasury:

• One person specially qualified by virtue of his or her education, training or experience as nationally or internationally recognized curator in the United States of a numismatic collection;

• One person specially qualified by virtue of his or her experience in the medallic arts or sculpture;

• One person specially qualified by virtue of his or her education, training, or experience in American history;

• One person specially qualified by virtue of his or her education, training, or experience in numismatics;

• Three persons who can represent the interests of the general public in the coinage of the United States; and

• Four persons appointed by the Secretary of the Treasury on the basis of the recommendations by the House and Senate leadership; all terms are four years except the terms of the initial appointees.

The Committee is subject to the direction of the Secretary of the Treasury. Meetings of the CCAC are open to the public. The United States Mint is responsible for providing the necessary support services for the Committee. Committee members are not paid for their time or services, but, consistent with Federal Travel Regulations, members are reimbursed for their travel and lodging expenses to attend up to ten meetings each year. Members may be subject to the Standards of Ethical Conduct for Employees of the Executive Branch (5 CFR part 2653).

The United States Mint will review all submissions and will forward its recommendations to the Secretary of the Treasury for appointment consideration. Candidates who are specially qualified in numismatics and who can represent the interests of the general public should include their knowledge of history or an understanding of American culture, history and patriotism. Candidates who believe that they are specially qualified to serve by reason of their education, training, or experience in the field of American history should provide support in their applications. Candidates will be called upon to recommend important places, people or events to commemorate our country's history as well as recommend the nation's coin programs to foster future coin collectors. All candidates should include specific skills, abilities, talents, and credentials to support their applications. The United States Mint is also interested in candidates who have demonstrated leadership skills, who have received recognition by their peers in their disciplines or fields of interest, who have records of participation in public service or activities, and who are willing to commit the time and effort to participate in the Committee meetings and related activities.

Application Deadline: September 5, 2003.

Receipt of Applications: Any member of the public wishing to be considered for participation on the committee should submit a resume, or letter describing qualifications for membership, by fax to 202-756-6539 or by mail to the United States Mint, 801 9th Street, NW., Washington, DC, 20001, Attn: CCAC Membership. Submissions must be postmarked no later than September 5, 2003.

Dated: August 11, 2003.
Henrietta Holsman Fore,
Director, United States Mint.

[FR Doc. 03-20799 Filed 8-14-03; 8:45 am]

BILLING CODE 4810-37-P